DEPARTMENT OF TRANSPORTATION

Federal Aviation Administration

[Docket No. 2019-0914]

Agency Information Collection Activities: Requests for Comments; Clearance of a Renewed Approval of Information Collection: Certification of Aircraft and Airmen for the Operation of Light-Sport Aircraft

AGENCY: Federal Aviation Administration (FAA), DOT.

ACTION: Notice and request for comments.

SUMMARY: In accordance with the Paperwork Reduction Act of 1995, FAA invites public comments about our intention to request the Office of Management and Budget (OMB) approval to renew an information collection. The collection involves the recordkeeping requirement for owners/operators of aircraft issued a special airworthiness certificate in the light-sport aircraft category (SLSA) to keep the current status of applicable safety directives, and transfer these records with the aircraft at the time the aircraft is sold. The information to be collected is necessary to determine and ensure the SLSA aircraft is in a condition for safe flight prior to aircraft operation.

DATES: Written comments should be submitted by January 14, 2020.

ADDRESSES: Please send written comments:

By Electronic Docket: www.regulations.gov (Enter docket number into search field)

By email: Tanya Glines, tanya.glines@faa.gov

FOR FURTHER INFORMATION CONTACT: Tanya Glines by email at: Tanya.glines@faa.gov; phone: 801-257-5085.

SUPPLEMENTARY INFORMATION:

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0730.

Title: Certification of Aircraft and Airmen for the Operation of Light-Sport Aircraft.

Form Numbers: Aircraft maintenance records/logs.

Type of Review: Renewal of an information collection.

Background: Title 14 CFR, § 91.417(a)(2)(v) requires each registered owner or operator to retain records containing the current status of applicable safety directives including, for each, the method of compliance, the safety directive number and revision date. Additionally, if the safety directive involves recurring action, the time and date when the next action is required.

Recording this information and retaining these records is necessary to determine if unsafe conditions have been corrected on aircraft issued a special airworthiness certificate in the light-sport category (SLSA), which assists in ensuring that the SLSA aircraft is in a condition safe for flight prior to its operation within the national airspace.

Respondents include owners/operators of SLSA, aircraft mechanics, and LSA repairmen with a Maintenance rating. The records of SLSA safety directive compliance are retained by the aircraft owner/operator, who must keep the records for the life of the SLSA aircraft and transfer them to the new owner at the time the aircraft is sold. The burden estimates are based on the current number of registered SLA and a projected future growth rate.

Respondents: 2935 owners/operators of SLSA aircraft.

Frequency: On occasion.

Estimated Average Burden per Response: 2 Hours.

Estimated Total Annual Burden: 5870 hours annual industry burden.

Issued in Washington, DC, on November 12, 2019.
Tanya A. Glines,
Aviation Safety Inspector, Safety Standards, General Aviation Maintenance Branch (AFS-350).

[FR Doc. 2019-24829 Filed 11-14-19; 8:45 am]

BILLING CODE 4910-13-P